FEDERAL COMMUNICATIONS COMMISSION

47 CFR Part 73

[DA 01-968, MM Docket No. 00-134; RM-9922, RM-10023]

Radio Broadcasting Services; Brighton and Stowe, VT

AGENCY: Federal Communications Commission.

ACTION: Final rule.

SUMMARY: At the request of Linda A. Davidson, this document allots Channel 295A to Brighton, Vermont. This document also denies a counterproposal filed by Radio Vermont Classics, L.L.C. to upgrade Station WCVT, Channel 269A, Stowe, Vermont, to specify operation on Channel 269C3. See 65 FR 51575, published August 24, 2000. The reference coordinates for the Channel 295A allotment at Brighton, Vermont, are 44-49-44 and 71-54-45. Canadian concurrence in the allotment of this channel has been requested but not yet received. Therefore, if a construction permit is issued , it may be conditioned on concurrence from the Canadian government. A filing window for the Channel 295A allotment at Brighton, Vermont, will not be opened at this time. Instead, the issue of opening this allotment for auction will be addressed by the Commission in a subsequent Order. With this action, the proceeding is terminated.

DATES: Effective June 5, 2001.

FOR FURTHER INFORMATION CONTACT: Robert Hayne, Mass Media Bureau, (202) 418-2177.

SUPPLEMENTARY INFORMATION: This is a synopsis of the Commission's Report and Order in MM Docket No. 00-134, adopted April 11, 2001, and released April 20, 2001. The full text of this decision is available for inspection and copying during normal business hours in the FCC's Reference Information Center at Portals II, CY-A257, 445 12th Street, SW, Washington, D.C. The complete text of this decision may also be purchased from the Commission's copy contractor, International Transcription Service, Inc., (202) 857-3800, 1231 20th Street, NW, Washington, D.C. 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Vermont, is amended by adding Brighton, Channel 295A.

Federal Communications Commission.
John A. Karousos,
Chief, Allocations Branch Policy and Rules Division Mass Media Bureau.

[FR Doc. 01-11170 Filed 5-3-01; 8:45 am]

BILLING CODE 6712-01-P